FEDERAL RESERVE SYSTEM

Formations of, Acquisitions by, and Mergers of Bank Holding Companies; Correction

This notice corrects a notice (FR Doc. 01-13079) published on page 28750 of the issue for Thursday, My 24, 2001.

Under the Federal Reserve Bank of Richmond heading, the entry for Greer Bancshares Incorporated, Greer, South Carolina, is revised to read as follows:

A. Federal Reserve Bank of Richmond (A. Linwood Gill, III, Vice President) 701 East Byrd Street, Richmond, Virginia 23261-4528:

1. Greer Bancshares Incorporated, Greer, South Carolina; to become a bank holding company by acquiring 100 percent of the voting shares of Greer State Bank, Greer, South Carolina.

Comments on this application must be received by June 18, 2001.

Board of Governors of the Federal Reserve System, May 25, 2001.
Robert deV. Frierson
Associate Secretary of the Board.

[FR Doc. 01-13668 Filed 5-30-01; 8:45 am]

BILLING CODE 6210-01-S